DEPARTMENT OF THE INTERIOR

Geological Survey

Technology Transfer Act of 1986

AGENCY: U.S. Geological Survey, Interior.

ACTION: Notice of Proposed Cooperative Research & Development Agreement (CRADA) Negotiations.

SUMMARY: The United States Geological Survey (USGS) is contemplating entering into a Cooperative Research and Development Agreement (CRADA) with Minerals Information Institute to develop interactive mineral educational materials for science teachers and students in grades K-12.

Inquiries: If any other parties are interested in similar activities with the USGS, please contact Joseph Gambogi, 12201 Sunrise Valley Drive, MS 983, Reston, VA 21092, phone: (703) 648-7718.

SUPPLEMENTARY INFORMATION: This notice is submitted to meet the USGS policy requirements stipulated in Survey Manual Chapter 500.20.

Dated: February 5, 2002.
P. Patrick Leahy,
Associate Director for Geology.

[FR Doc. 02-3735 Filed 2-14-02; 8:45 am]

BILLING CODE 4310-Y7-M